DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with July anniversary dates. In accordance with Commerce's regulations, we are initiating those administrative reviews.

DATES: Applicable September 3, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with July anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews

In accordance with 19 CFR 351.221(c)(1)(i), we are initiating administrative reviews of the following AD and CVD orders and findings. We intend to issue the final results of these reviews not later than July 31, 2021.

| Period to be reviewed
AD Proceedings
BELGIUM: Citric Acid and Certain Citrate Salts, A-423-813 | 7/1/19-6/30/20
S.A. Citrique Belge N.V.
COLOMBIA: Citric Acid and Certain Citrate Salts, A-301-803 | 7/1/19-6/30/20
Sucroal S.A.
INDIA: Fine Denier Polyester Staple Fiber, A-533-875 | 7/1/19-6/30/20
Reliance Industries Limited
INDIA: Polyethylene Terephthalate (PET) Film, A-533-824 | 7/1/19-6/30/20
Ester Industries Limited
Garware Polyester Ltd.
Jindal Poly Films Limited
Polyplex Corporation Ltd.
SRF Ltd.
SRF Limited of India
Vacmet India Limited
MTZ Polyesters Ltd.
Uflex Ltd.
ITALY: Certain Pasta, A-475-818 | 7/1/19-6/30/20
Agritalia S.r.L.
Armonie D'Italia srl
F. Divella S.p.A.
La Molisana S.p.A.
Liguori Pastificio dal 1820 S.p.A.
Pasta Castiglioni
Pasta Zara, S.p.A
Pastificio Della Forma S.r.l.
Pastificio C.A.M.S. Srl
Pastificio Fratelli De Luca S.r.l.
Rummo S.p.A.
JAPAN: Cold-Rolled Steel Flat Products, A-588-873 | 7/1/19-6/30/20
Asada Corporation
Hanwa Co., Ltd.
Hitachi Metals Trading, Ltd.
Hitachi Metals, Ltd.
JFE Shoji Trade Corporation
JSR Corporation
Kanematsu Corporation
Katayama Kogyo Co., Ltd.
Mitsui and Co., Ltd.
Nachi-Fujikoshi Corporation
Shinsho Corporation
Sumisho Metalex Corporation
Sumitomo Corporation Global Metals
Tajima Steel Co., Ltd.
Topy Fasteners Ltd.
Toyo Kihan Co., Ltd.
Toyo Kohan Co., Ltd.
Toyota Tsusho Corporation
Young Steel Co., Ltd.
Yusen Logistics Co., Ltd.
MALAYSIA: Certain Steel Nails, A-557-816 | 7/1/19-6/30/20
Atlantic Manufacture Inc.
Chia Pao Metal Co., Ltd.
Delmar International (Vietnam) Ltd.
Dicha Sombrilla Co., Ltd.
Expeditors Vietnam Company Limited
Gia Linh Logistics Services Co., Ltd.
Global Logistics Solution Co., Ltd.
Inmax Industries Sdn. Bhd.
Inmax Sdn. Bhd.
Jinhai Hardware Co., Ltd.
K-Apex Logistics (HK) Co., Limited
KPF Vietnam Co., Ltd.
KPF Vina Co., Ltd.
Orient Star Transport Int'l Ltd.
Oriental Multiple Enterprise Ltd.
Pudong Prime Int'l Logistics Inc.
Region International Co., Ltd.
Region System Sdn. Bhd.
Tag Fasteners Sdn. Bhd.
Rich State, Inc.
Top Shipping Company Limited
Topy Fasteners Vietnam Co., Ltd.
Truong Vinh Ltd.
United Nail Products Co., Ltd.
Vina Hardwares Joint Stock Company
OMAN: Certain Steel Nails, A-523-808 | 7/1/19-6/30/20
Astrotech Steels Private Ltd.
Geekay Wires Limited
Oman Fasteners LLC
Overseas International Steel Industry LLC & Overseas Distribution Services Inc.
Trinity Steel Private Limited
Universal Freight Services LLC
WWL India Private Ltd.
REPUBLIC OF KOREA: Certain Steel Nails, A-580-874 | 7/1/19-6/30/20
Astrotech Steels Private Ltd.
Beijing Catic Industry Ltd.
Beijing Jinheung Co. Ltd. Inmax Industries Sdn. Bhd.
Bonuts Hardware Logistics
Bowon Fastener Co., Ltd.
Cheng Ch International Co., Ltd.
China International Freight
China Staple Enterprise Co., Ltd.
Crane Worldwide Logistics
Daejin Steel Company
De Well Group Korea Co., Ltd.
Dezhou Hualude Hardware Products Co., Ltd.
Dongwon Industries Co., Ltd.
Duo-Fast Co., Ltd.
Duo-Fast Korea Co., Ltd.
Euro Line Global Co. Ltd.
Fastgrow International Co.
Geekay Wires Limited
Hanbit Logistics Co., Ltd.
Hanmi Staple Co., Ltd.
Hebei Cangzhou New Century Foreign Trade Co., Ltd.
Hebei Jinsidun Trade Co. Ltd.
Hebei Minghao Import Export Co Li
Hebei Minmetals Co., Ltd.
Hengtuo Metal Products Co Ltd.
Hongyi Hardware Products Co., Ltd.
Inmax Sdn. Bhd.
Jas Forwarding (Korea) Co. Ltd.
JCD Group Co., Limited
Jeil Tacker Co. Ltd.
Je-il Wire Production Co., Ltd.
Jinhai Hardware Co., Ltd.
Jinheung Steel Corporation
Jinsco International Corp.
Joo Sung Sea & Air Co., Ltd.
Joosung B&P
Jung Fastener
Kabool Fasteners Co., Ltd.
Kintetsu World Express (Korea) Inc.
Koram Inc.
Korea Wire Co., Ltd.
Kousa Int. Logistics Co. Ltd.
KPF Co., Ltd.
Kuehne + Nagel Ltd.
Liang Chyuan Industrial Co., Ltd.
Maxpeed International Transport
Mingguang Ruifeng Hardware Products Co., Ltd.
MPROVE Co., Limited
Nailtech Co., Ltd.
OEC Freight (Korea) Co., Ltd.
OEC Worldwide Korea Co., Ltd.
Orient Express Container Co., Ltd.
Paslode Fasteners (Shanghai) Co., Ltd.
Peace Industries, Ltd.
Promising Way (HongKong) Limited
Pro-Team Coil Nail Enterprise Inc.
Qingdao Cheshire Trading Co. Ltd.
Qingdao D&L Group Ltd.
Qingdao Hongyuan Nail Industry Co. Ltd.
Qingdao JCD Machinery Co., Ltd.
Qingdao Jisco Co., Ltd.
Qingdao Mst Industry and Commerce Co., Ltd.
Ramses Logistics Co., Ltd.
Schenker Korea Ltd.
Sejung Shipping Co., Ltd.
Shandong Oriental Cherry Hardware Group Co. Ltd.
Shandong Oriental Cherry Hardware Import & Export Co., Ltd.
Shandong Qingyun Hongyi Hardware Products Co., Ltd.
Shanghai Zoonlion Industrial Co., Ltd.
Shanxi Pioneer Hardware Industry Co., Ltd.
Shanxi Tianli Industries Co., Ltd.
Shipco Transport (Korea) Co., Ltd.
ST Fasteners
Suntec Industries Co., Ltd.
The Inno Steel
Tianjin Coways Metal Products Co.
Tianjin Hongli Qiangsheng Imp. & Exp
Tianjin Jinchi Metal Products Co., Ltd.
Tianjin Jinghai County Hongli
Tianjin Lituo Imp & Exp Co., Ltd.
Tianjin Liweitian Metal Technology
Tianjin Xinhe International Trade Co. Ltd.
Tianjin Zhonglian Metals Ware Co. Ltd.
Tianjin Zhonglian Times Technology
Unicorn (Tianjin) Fasteners Co., Ltd.
Woosung Shipping Co. Ltd.
Wulian Zhanpeng Metals Co., Ltd.
Xi'an Metals and Minerals Imp. Exp. Co., Ltd.
Xinjiayuan International Trade Co.
Young-Ko Trans Co., Ltd.
Youngwoo Fasteners Co., Ltd.
Zhaoqing Harvest Nails Co., Ltd.
Zon Mon Co Ltd.
REPUBLIC OF KOREA: Corrosion-Resistant Steel Products, A-580-878 | 7/1/19-6/30/20
Dongbu Incheon Steel Co., Ltd.
Dongbu Steel Co., Ltd.
Dongkuk Steel Mill Co., Ltd.
Hyundai Steel Company
KG Dongbu Steel Co., Ltd. (formerly Dongbu Steel Co., Ltd.)
POSCO
POSCO Coated & Color Steel Co., Ltd.
POSCO Daewoo Corporation
POSCO International Corporation (formerly POSCO Daewoo Corporation)
SOCIALIST OF REPUBLIC OF VIETNAM: Certain Steel Nails, A-552-818 | 7/1/19-6/30/20
Atlantic Manufacture Inc.
Chia Pao Metal Co., Ltd.
Delmar International (Vietnam) Ltd.
Dicha Sombrilla Co., Ltd.
Easylink Industrial Co., Ltd.
Expeditors Vietnam Company Limited
Gia Linh Logistics Services Co., Ltd.
Global Logistics Solution Co., Ltd.
Inmax Industries SDN. BHD
Jinhai Hardware Co., Ltd.
K-Apex Logistics (HK) Co., Limited
KPF Vietnam Co., Ltd.
KPF Vina Co., Ltd.
Orient Star Transport Int'l Ltd.
Oriental Multiple Enterprise Ltd.
Pudong Prime Int'l Logistics Inc.
Region Industries Co., Ltd.
Rich State, Inc.
Top Shipping Company Limited
Topy Fasteners Vietnam Co., Ltd.
Truong Vinh Ltd.
United Nail Products Co., Ltd.
Vina Hardwares Joint Stock Company
TAIWAN: Certain Steel Nails, A-583-854 | 7/1/19-6/30/20
A Jax Enterprises Ltd.
A Jax International Company Ltd.
AA Freight Inc.
ABS Metal Industry Corp.
Advanced Global Sourcing Ltd.
Alishan International Group Co., Ltd.
Apex Fastener International, Co., Ltd.
Aplus Pneumatic Corp.
A-Stainless International Co., Ltd.
Astrotech Steels Private Ltd.
Autolink International Co., Ltd.
Bestwell International Corp.
Bon Voyage Logistics Inc.
Bonuts Hardware Logistics Co., Ltd.
Bulls Technology Co., Ltd.
C.H. Robinson Freight Services
Canatex Industrial Co., Ltd.
Cata Co. Ltd.
Chaen Wei Corporation
Channg Chin Industry Corp.
Charng Yu Industrial Company Ltd.
Cheng CH International Co., Ltd.
Chia Da Fastener Co. Ltd.
China International Freight Co., Ltd.
China Mast Forwarders Co., Ltd.⁵
China Sea Forwarders Co., Ltd.
China Staple Enterprise Corporation
Chite Enterprises Co., Ltd.
Clinch Nutsandstuds Co., Ltd.
Cornwall Enterprise Co., Ltd.
Co-Wealth Enterprise Co., Ltd.
Crane Worldwide Logistics LLC
Create Trading Co., Ltd.
Crown Run Industrial Corp.
De Fasteners Inc.
De Hui Screw Industry Co. Ltd.
Dolphin Logistics Co. Ltd.
Easylink Industrial Co., Ltd.
Encore Green Co. Ltd.
Everise Global Logistics Co., Ltd.
Faithful Engineering Products Co., Ltd.
General Merchandise Consolidators, Inc.
Ginfa World Co. Ltd.
Home Value Co., Ltd.
Honour Lane Logistics Co.
Hor Liang Industrial Corp.
Hoyi Plus Co., Ltd.
International Freight Services
J C Grand Corporation
Jau Yeou Industry Co., Ltd.
Jinhai Hardware Co., Ltd.
Jinsco International Corp.
Jockey Ben Metal Enterprise Co. Ltd.
K.E. & Kingstone Co., Ltd.
King Compass Logistics Ltd.
Korea Wire Co., Ltd.
Kuehne + Nagel Ltd.
Liang Chyuan Industrial Co., Ltd.
Liang's Industrial Corp.
Linkwell Industry Co., Ltd.
Maytrans International Cor.
MCL Multi Container Line Ltd.
OEC Freight Worldwide Co., Ltd.
Orient Express Container Co., Ltd.
Orient Star Transport Int'l Ltd.
Oriental Logistics Group Ltd.
OTS Forwarding (TWN) Ltd.
Pacific Concord International Ltd.
Pacific Star Express Corp.
Panther T & H Industry Co., Ltd.
PAR Excellence Industrial Co. Ltd.
Patek Tool Co., Limited
Pelican Logistics Co., Ltd.
PT Enterprise, Inc./Pro Team Coil Nail Enterprise Incor.⁶
Pro-in Co., Ltd.
Quick Advance Inc.⁷
Region Industries Co., Ltd.
Rodex Fasteners Corp.
Rohlig Taiwan Co., Ltd.
Romp Coil Nail Industries Inc.
Roseter Info Trade Co., Ltd.
RTG Logistics Ltd.⁸
San Shing Fastech Corp.
Scanwell Container Line Ltd.
Scanwell Logistics (Taiwan) Ltd.
Schenker (H.K.) Ltd. (Taiwan Branch)
Se Fa Enterprise Co., Ltd.
Seamaster Logistics Inc. Co.
Shen Fong Industries Co., Ltd.
Shenyang Parts Industry Co., Ltd.
Shinn Rung Co., Ltd.
Shipco Transport Taiwan Co., Ltd.
Shun Den Iron Works Co., Ltd.
Sino Connections Logistics Inc.
Sino Global Logistics Co., Ltd.
Sirius Global Logistics Co. Ltd.
Six-2 Fastener Imports Inc.
Special Fastener Engineering Co., Ltd.
Speedier Logistics Co., Ltd.
Speedmark Consolidated Service, Ltd.
Sun Chen Fasteners Inc.
Sysmetal Enterprise, Co., Ltd.
SZU I Industries Co., Ltd.
T.H.I. Logistics Co. Ltd.
T.V.L. Container Line Ltd.
Tai Mao Nuts Co., Ltd.
Taifas Corporation
Taiwan Shan Yin International Co., Ltd.
Tang An Enterprise Co., Ltd.
Team Builder Enterprise Ltd.
Techart Mechanical Corporation
Test-Rite Int'l Co., Ltd.
The Ultimate Freight Management Ltd.
TJN International Ltd.
Toll Global Forwarding Ltd.
Tong HWEI Enterprise Co., Ltd.
Trans Wagon Int'l Co., Ltd.
Trans-Top Enterprise Co., Ltd.
Transwell Logistics Co. Ltd.
Trim International Inc.
TSI Translink Taiwan Co. Ltd.
UC Freight Forwarding Co., Ltd.
UJL Industries Co. Ltd.
Uni-Protech Industrial Co., Ltd.
Unicatch Industrial Co., Ltd.
Unistrong Industrial Co., Ltd.
Universal Power Shipping Ltd.
UPS Supply Chain Solutions Co., Ltd.
Wa Tai Industrial Co., Ltd.
Wanda International Logistics Co., Ltd.
Well-Source Connection Co., Ltd.
Whale Logistics Co., Ltd.
Wier I Industry Co., Ltd.
Win Fastener Corp.
Wyser International Corp.
Yeong Ming Steel Iron Co., Ltd.
Yeou Cherng Industrial Co., Ltd.
Yu Chi Hardware Co. Ltd.
Yu Chi Hardware Co., Ltd.
Yu Chi Taiwan Enterprise Co., Ltd.
Zon Mon Co., Ltd.
TAIWAN: Corrosion-Resistant Steel Products, A-583-856 | 7/1/19-6/30/20
Great Fortune Steel Co., Ltd.
Great Grandeul Steel Co., Ltd.
Great Grandeul Steel Company Limited (a.k.a. Great Grandeul Steel Company Limited Somoa and Great Grandeul Steel Company Limited (Somoa))
Prosperity Tieh Enterprise Co., Ltd.
Sheng Yu Steel Co., Ltd.
Synn Industrial Co., Ltd.
Yieh Phui Enterprise Co., Ltd.
TAIWAN: Polyethylene Terephthalate (PET) Film, A-583-837 | 7/1/19-6/30/20
Nan Ya Plastics Corporation
Shinkong Materials Technology Corporation
Shinkong Synthetic Fibers Corporation
THAILAND: Citric Acid and Certain Citrate Salts, A-549-833 | 7/1/19-6/30/20
COFCO Biochemical (Thailand) Co., Ltd.
Niran (Thailand) Co., Ltd.
Sunshine Biotech International Co., Ltd.
THE PEOPLE'S REPUBLIC OF CHINA: Tapered Roller Bearing and Parts Thereof, Finished or Unfinished ⁹
A-570-601 | 6/1/19-5/31/20
Changshan Peer Bearing Co., Ltd.
Hebei Xintai Bearing Forging Co., Ltd.
Xinchang Newsun Xintianlong Precision Bearing Manufacturing Co., Ltd.
THE PEOPLE'S REPUBLIC OF CHINA: Quartz Surface Products, A-570-084 | 11/20/18-6/30/20
Dava Industry Co., Ltd.
Deyuan Panmin International Limited
Deyuan Stone
Farfield Trade Co., Ltd.
Foshan Adamant Science & Technology Co., Ltd.
Foshan Modern Stone Co., Ltd.
Guangzhou Hercules Quartz Stone Co., Ltd.
Heshan City Nande Stone Co., Ltd.
Lanling Jinzhao New Material Co., Ltd.
QJ Quartz Stone Ltd.
Sinostone (Guangdong) Co., Ltd.
Wisdom Stone Co., Ltd.
Xiamen Deyuan Panmin Trading Co., Ltd.
Yunfu Honghai Co., Ltd., aka Yunfu Honghai Stone Co., Ltd.
THE PEOPLE'S REPUBLIC OF CHINA: Xanthan Gum, A-570-985 | 7/1/19-6/30/20
A.H.A. International Co., Ltd.
CP Kelco (Shandong) Biological Company Limited
Deosen Biochemical (Ordos) Ltd.
Deosen Biochemical Ltd.
Greenhealth International Co., Ltd. (Hong Kong)
Hebei Xinhe Biochemical Co., Ltd.
Inner Mongolia Jianlong Biochemical Co., Ltd.
Jianglong Biotechnology Co., Ltd.
Langfang Meihua Biotechnology Co., Ltd.
Meihua Group International Trading (Hong Kong) Limited
Nanotech Solutions SDN BHD
Neimenggu Fufeng Biotechnologies Co., Ltd. (aka Inner Mongolia Fufeng Biotechnologies Co., Ltd.)
Shandong Fufeng Fermentation Co., Ltd.
Shanghai Smart Chemicals Co. Ltd.
Xinjiang Fufeng Biotechnologies Co., Ltd.
Xinjiang Meihua Amino Acid Co., Ltd.
TURKEY: Steel Concrete Reinforcing Bar, A-489-829 | 7/1/19-6/30/20
Colakoglu Dis Ticaret A.S.
Colakoglu Metalurji A.S.
Diler Dis Ticaret A.S.
Habas Sinai ve Tibbi Gazlar Istihsal Endustrisi A.S.
Icdas Celik Enerji Tersane ve Ulasim Sanayi A.S.
Kaptan Demir Celik Endustrisi ve Ticaret A.S.
Kaptan Metal Dis Ticaret Ve Nakliyat A.S.
Kroman Celik Sanayi A.S.
Yücel Boru Ithalat-Ihracat ve Pazarlama A.Ş.
UKRAINE: Oil Country Tubular Goods, A-823-815 | 7/1/19-6/30/20
Interpipe Europe S.A.
Interpipe Ukraine LLC
PJSC Interpipe Niznedneprovskv Tube Rolling Plant
LLC Interpipe Niko Tube
CVD Proceedings
INDIA: Polyethylene Terephthalate (PET) Film, C-533-825 | 1/1/19-12/31/19
Ester Industries Limited
Garware Polyester Ltd
Jindal Poly Films Ltd.¹⁰
MTZ Polyester Ltd.
Polyplex Corporation Ltd
SRF Limited ¹¹
Uflex Ltd.
Vacmet India Limited
ITALY: Certain Pasta, C-475-819 | 1/1/19-12/31/19
Armonie D'Italia srl
Industria Alimentare Colavita, S.p.A
Pastificio C.A.M.S. Srl
Pastificio Fratelli De Luca S.r.l.
REPUBLIC OF KOREA: Corrosion-Resistant Steel Products, C-580-879 | 1/1/19-12/31/19
Ajin H & S Co., Ltd.
AJU Steel Co. Ltd.
B&N International
CDS Global Logistics
Dong A Hwa Sung Co., Ltd.
Dongbu Incheon Steel Co., Ltd.
KG Dongbu Steel Co., Ltd. (formerly Dongbu Steel Co., Ltd.)
Dongkuk International, Inc.
Dongkuk Steel Mill Co., Ltd.
Hyundai Steel Company
Korea Clad Tech. Co., Ltd.
Pantos Logistics Co., Ltd.
PL Special Steel Co., Ltd.
POSCO
POSCO C&C
POSCO Coated & Color Steel Co., Ltd.
POSCO Daewoo Corp.
Samsung C&T Corporation
Samsung Electronics Co., Ltd.
Sanglim Steel Co., Ltd.
SeAH Coated Metal
SeAH Steel Corporation
Seajin St. Industry, Ltd.
Sejung Shipping Co., Ltd.
Seun Steel Co., Ltd.
Segye Chemical Industry Co., Ltd.
Shandongsheng Cao Xian Yalu Mftd.
Shengzhou Hanshine Import and Export Trade
Soon Hong Trading Co., Ltd.
Southern Steel Sheet Co., Ltd.
SSangyong Manufacturing
Sung A Steel Co., Ltd.
SW Co., Ltd.
SY Co., Ltd.
Syon
TCC Steel. Co., Ltd.
Young Steel Korea Co., Ltd.
Young Sun Steel Co.
Young Steel Co.
SOCIALIST OF REPUBLIC OF VIETNAM: Certain Steel Nails, C-552-819 | 1/1/19-12/31/19
Atlantic Manufacture Inc.
Chia Pao Metal Co., Ltd.
Delmar International (Vietnam) Ltd.
Dicha Sombrilla Co., Ltd.
Easylink Industrial Co., Ltd.
Expeditors Vietnam Company Limited
Gia Linh Logistics Services Co., Ltd.
Global Logistics Solution Co., Ltd.
Inmax Industries SDN. BHD
Jinhai Hardware Co., Ltd.
K-Apex Logistics (HK) Co., Limited
KPF Vietnam Co., Ltd.
KPF Vina Co., Ltd.
Orient Star Transport Int'l Ltd.
Oriental Multiple Enterprise Ltd.
Pudong Prime Int'l Logistics Inc.
Region Industries Co., Ltd.
Rich State, Inc.
Top Shipping Company Limited
Topy Fasteners Vietnam Co., Ltd.
Truong Vinh Ltd.
United Nail Products Co., Ltd.
Vina Hardwares Joint Stock Company
THE PEOPLE'S REPUBLIC OF CHINA: Quartz Surface Products, C-570-085 | 9/21/18-12/31/19
Dava Industry Co., Ltd.
Deyuan Stone
Farfield Trade Co., Ltd.
Foshan Adamant Science & Technology Co., Ltd.
Foshan Modern Stone Co., Ltd.
Guangzhou Hercules Quartz Stone Co., Ltd.
Heshan City Nande Stone Co., Ltd.
Lanling Jinzhao New Material Co., Ltd.
QJ Quartz Stone Ltd.
Sinostone (Guangdong) Co., Ltd.
Wisdom Stone Co., Ltd.
Xiamen Deyuan Panmin Trading Co., Ltd.
Yunfu Honghai Co., Ltd., aka Yunfu Honghai Stone Co., Ltd.
TURKEY: Certain Pasta, C-489-806 | 1/1/19-12/31/19
Bessan Makarna Gida SA. Ve Tic. A.S.
TURKEY: Steel Concrete Reinforcing Bar, C-489-830 | 1/1/19-12/31/19
Habas Sinai ve Tibbi Gazlar Istihsal Endustrisi A.S.

Suspension Agreements

None.

⁵ The petitioner identified this company twice; thus, Commerce is only listed this company one time.

⁶ Commerce determined that Pro-Team and PT Enterprise comprise a single entity in Certain Steel Nails from Taiwan: Preliminary Results of Antidumping Duty Administrative Review and Partial Rescission of Administrative Review; 2015-2016, 82 FR 36744 (August 7, 2017), unchanged in Certain Steel Nails from Taiwan: Final Results of Antidumping Duty Administrative Review and Partial Rescission of Administrative Review; 2015-2016, 83 FR 6163 (February 13, 2018).

⁷ Certain steel nails produced by Ko's Nail Inc. and exported by Quick Advance Inc. were excluded from the antidumping duty order on certain steel nails from Taiwan. See Certain Steel Nails from the Republic of Korea, Malaysia, the Sultanate of Oman, Taiwan, and the Socialist Republic of Vietnam: Antidumping Duty Orders, 80 FR 39994, 39996 (July 13, 2015).

⁸ The petitioner identified this company twice; thus, Commerce is only listed this company one time.

⁹ Commerce inadvertently did not include these companies in the initiation notice that published on August 6, 2020 (85 FR 47731). Accordingly, Commerce is initiating this administrative review with respect to the companies listed above, and we are not initiating an administrative review for Precision Components Inc.

¹⁰ This company is also known as Jindal Poly Films Ltd. (India).

¹¹ This company is also known as SRF Limited of India.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,¹² available at https://enforcement.trade.gov/frn/2013/1304frn/2013-08227.txt, prior to submitting factual information in this segment. Note that Commerce has temporarily modified certain of its requirements for serving documents containing business proprietary information, until further notice.¹³

¹² See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹³ See Temporary Rule Modifying AD/CVD Service Requirements Due to COVID-19, 85 FR 41363 (July 10, 2020).

Any party submitting factual information in an AD or CVD proceeding must certify to the accuracy and completeness of that information using the formats provided at the end of the Final Rule.¹⁴ Commerce intends to reject factual submissions in any proceeding segments if the submitting party does not comply with applicable certification requirements.

¹⁴ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁵ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

¹⁵ See 19 CFR 351.302.

These initiations and this notice are in accordance with section 751(a) of the Act (19 U.S.C. 1675(a)) and 19 CFR 351.221(c)(1)(i).

Dated: August 31, 2020.
James Maeder,
Deputy Assistant Secretary for Antidumping and Countervailing Duty Operations.

[FR Doc. 2020-19504 Filed 9-2-20; 8:45 am]

BILLING CODE 3510-DS-P